DEPARTMENT OF THE TREASURY

Office of Foreign Assets Control

Notice of OFAC Sanctions Actions

AGENCY: Office of Foreign Assets Control, Treasury.

ACTION: Notice.

SUMMARY: The U.S. Department of the Treasury's Office of Foreign Assets Control (OFAC) is publishing the names of one or more persons that have been placed on OFAC's Specially Designated Nationals and Blocked Persons List (SDN List) based on OFAC's determination that one or more applicable legal criteria were satisfied. All property and interests in property subject to U.S. jurisdiction of these persons are blocked, and U.S. persons are generally prohibited from engaging in transactions with them.

DATES: See SUPPLEMENTARY INFORMATION section for applicable date(s).

FOR FURTHER INFORMATION CONTACT: OFAC: Andrea Gacki, Director, tel.: 202-622-2490; Associate Director for Global Targeting, tel.: 202-622-2420; Assistant Director for Licensing, tel.: 202-622-2480; Assistant Director for Regulatory Affairs, tel.: 202-622-4855; or the Assistant Director for Sanctions Compliance & Evaluation, tel.: 202-622-2490.

SUPPLEMENTARY INFORMATION:

Electronic Availability

The SDN List and additional information concerning OFAC sanctions programs are available on OFAC's website (https://www.treasury.gov/ofac).

Notice of OFAC Action(s)

On December 6, 2021, OFAC determined that the property and interests in property subject to U.S. jurisdiction of the following persons are blocked under the relevant sanctions authorities listed below.

Individual

MUKONDA MAYANDU, Alain, Kivu 32 BIS, Salongo, Kintambo, Kinshasa, Kinshasa, Congo, Democratic Republic of the; DOB 09 Feb 1976; nationality Congo, Democratic Republic of the; Gender Male; Passport OP0110491 (Congo, Democratic Republic of the) (individual) [GLOMAG] (Linked To: GERTLER, Dan).

Designated pursuant to section 1(a)(iii)(A)(1) of Executive Order 13818 of December 20, 2017, “Blocking the Property of Persons Involved in Serious Human Rights Abuse or Corruption,” 82 FR 60839, 3 CFR, 2018 Comp., p. 399, (E.O. 13818) for having materially assisted, sponsored, or provided financial, material, or technological support for, or goods or services to or in support of GERTLER, Dan, a person whose property and interests in property are blocked pursuant to this order.

Entities

1. VENTORA GLOBAL SERVICES, 110 Boulevard Du 30 Juin, Immeuble Onze Treize, 8th Floor, Kinshasa, Kinshasa, Kinshasa, Congo, Democratic Republic of the; Commercial Registry Number CD/KNG/RCCM/18-B-00322 (Congo, Democratic Republic of the) [GLOMAG] (Linked To: MUKONDA MAYANDU, Alain).

Designated pursuant to section 1(a)(iii)(B) of E.O. 13818 for being owned or controlled by, or having acted or purported to act for or on behalf of, directly or indirectly, MUKONDA MAYANDU, ALAIN, a person whose property and interests in property are blocked pursuant to this order.

2. VENTORA MINING S.A.S.U. (a.k.a. VENTORA MINING), 8th floor, Immeuble 1113, Boulevard Du 30 Juin No. 110, Gombe, Kinshasa, Kinshasa, Congo, Democratic Republic of the; Identification Number 01-83-N36154C (Congo, Democratic Republic of the); Commercial Registry Number CD/KNG/RCCM/18-B-01222 (Congo, Democratic Republic of the) [GLOMAG] (Linked To: MUKONDA MAYANDU, Alain).

Designated pursuant to section 1(a)(iii)(B) of E.O. 13818 for being owned or controlled by, or having acted or purported to act for or on behalf of, directly or indirectly, MUKONDA MAYANDU, ALAIN, a person whose property and interests in property are blocked pursuant to this order.

3. ASHDALE SETTLEMENT GERCO SAS (f.k.a. GERCO SAS), 67 Boulevard Du 30 Juin, Immeuble Golf, 5eme etage, Municipality of Gombe, Kinshasa, Congo, Democratic Republic of the; 32 BIS, Avenue KIVU, Ngaliema, Kinshasa, Kinshasa, Congo, Democratic Republic of the; 8eme etage, immeuble 1113, Boulevard Du 30 Juin No. 110, Municipality of Gombe, Kinshasa, Congo, Democratic Republic of the; 70 Batetela, Immeuble Tilipia, 5eme etage, Municipality of Gombe, Kinshasa, Kinshasa, Congo, Democratic Republic of the; Commercial Registry Number CD/KNG/RCCM/17-B-01379 (Congo, Democratic Republic of the) [GLOMAG] (Linked To: MUKONDA MAYANDU, Alain).

Designated pursuant to section 1(a)(iii)(B) of E.O. 13818 for being owned or controlled by, or having acted or purported to act for or on behalf of, directly or indirectly, MUKONDA MAYANDU, ALAIN, a person whose property and interests in property are blocked pursuant to this order.

4. GEMINI S.A.S.U., 8eme etage, Immeuble 1113, Boulevard Du 30 Juin No. 110, Municipality of Gombe, Kinshasa, Congo, Democratic Republic of the; Commercial Registry Number CD/KNG/RCCM/18-B-01223 (Congo, Democratic Republic of the) [GLOMAG] (Linked To: OPERA).

Designated pursuant to section 1(a)(iii)(B) of E.O. 13818 for being owned or controlled by, or having acted or purported to act for or on behalf of, directly or indirectly, OPERA, a person whose property and interests in property are blocked pursuant to this order.

5. KALTONA LIMITED SASU, Immeuble 1113, 8eme etage, No. 110 Boulevard Du 30 Juin, Municipality of Gombe, Kinshasa, Congo, Democratic Republic of the; Commercial Registry Number CD/KNG/RCCM/18-B-01271 (Congo, Democratic Republic of the) [GLOMAG] (Linked To: GEMINI S.A.S.U.).

Designated pursuant to section 1(a)(iii)(B) of E.O. 13818 for being owned or controlled by, or having acted or purported to act for or on behalf of, directly or indirectly, GEMINI S.A.S.U., a person whose property and interests in property are blocked pursuant to this order.

6. KINTALEG LIMITED, 57/63, Line Wall Road, Gibraltar GX11 1AA, Gibraltar; Organization Type: Activities of holding companies; Target Type Private Company [GLOMAG] (Linked To: MUKONDA MAYANDU, Alain).

Designated pursuant to section 1(a)(iii)(B) of E.O. 13818 for being owned or controlled by, or having acted or purported to act for or on behalf of, directly or indirectly, MUKONDA MAYANDU, ALAIN, a person whose property and interests in property are blocked pursuant to this order.

7. MULTREE LIMITED SASU, Immeuble 1113, 8eme etage, No. 110 Boulevard Du 30 Juin, Municipality of Gombe, Kinshasa, Congo, Democratic Republic of the; Commercial Registry Number CD/KNG/RCCM/18-B-01272 (Congo, Democratic Republic of the) [GLOMAG] (Linked To: GEMINI S.A.S.U.).

Designated pursuant to section 1(a)(iii)(B) of E.O. 13818 for being owned or controlled by, or having acted or purported to act for or on behalf of, directly or indirectly, GEMINI S.A.S.U., a person whose property and interests in property are blocked pursuant to this order.

8. OPERA, 8eme etage, Immeuble 1113, Boulevard Du 30 Juin No. 110, Municipality of Gombe, Kinshasa, Congo, Democratic Republic of the; Organization Type: Activities of holding companies; Target Type Private Company; Commercial Registry Number CD/KNG/RCCM/18-B-01188 (Congo, Democratic Republic of the) [GLOMAG] (Linked To: ASHDALE SETTLEMENT GERCO SAS).

Designated pursuant to section 1(a)(iii)(B) of E.O. 13818 for being owned or controlled by, or having acted or purported to act for or on behalf of, directly or indirectly, ASHDALE SETTLEMENT GERCO SAS, a person whose property and interests in property are blocked pursuant to this order.

9. PALATINA SARLU, 67 Boulevard Du 30 Juin, Immeuble Golf, 5eme etage, Municipality of Gombe, Kinshasa, Congo, Democratic Republic of the; Commercial Registry Number CD/KNG/RCCM/18-B-00090 (Congo, Democratic Republic of the) [GLOMAG] (Linked To: ASHDALE SETTLEMENT GERCO SAS).

Designated pursuant to section 1(a)(iii)(B) of E.O. 13818 for being owned or controlled by, or having acted or purported to act for or on behalf of, directly or indirectly, ASHDALE SETTLEMENT GERCO SAS, a person whose property and interests in property are blocked pursuant to this order.

10. ROSEHILL DRC SASU, Immeuble 1113, 8eme etage, No. 110 Boulevard Du 30 Juin, Municipality of Gombe, Kinshasa, Congo, Democratic Republic of the; Commercial Registry Number CD/KNG/RCCM/18-B-01317 (Congo, Democratic Republic of the) [GLOMAG] (Linked To: WOODFORD ENTERPRISES LIMITED SASU).

Designated pursuant to section 1(a)(iii)(B) of E.O. 13818 for being owned or controlled by, or having acted or purported to act for or on behalf of, directly or indirectly, WOODFORD ENTERPRISES LIMITED SASU, a person whose property and interests in property are blocked pursuant to this order.

11. WOODFORD ENTERPRISES LIMITED SASU, 8eme etage, Immeuble 1113, No. 110 Boulevard Du 30 Juin, Municipality of Gombe, Kinshasa, Congo, Democratic Republic of the; Commercial Registry Number CD/KNG/RCCM/18-B-01274 (Congo, Democratic Republic of the) [GLOMAG] (Linked To: GEMINI S.A.S.U.).

Designated pursuant to section 1(a)(iii)(B) of E.O. 13818 for being owned or controlled by, or having acted or purported to act for or on behalf of, directly or indirectly, GEMINI S.A.S.U., a person whose property and interests in property are blocked pursuant to this order.

12. WOODHAVEN DRC SASU, Immeuble 1113, 8eme etage, No. 110 Boulevard Du 30 Juin, Municipality of Gombe, Kinshasa, Congo, Democratic Republic of the; Commercial Registry Number CD/KNG/RCCM/18-B-01347 (Congo, Democratic Republic of the) [GLOMAG] (Linked To: ROSEHILL DRC SASU).

Designated pursuant to section 1(a)(iii)(B) of E.O. 13818 for being owned or controlled by, or having acted or purported to act for or on behalf of, directly or indirectly, ROSEHILL DRC SASU, a person whose property and interests in property are blocked pursuant to this order.

Additionally, on December 6, 2021, OFAC updated the SDN List for the following persons, whose property and interests in property continue to be blocked under the relevant sanctions authority listed below.

1. CAPRIKAT LIMITED, Akara Building, 24 Castro Street, Wickhams Cay 1, P.O. Box 3136, Road Town, Tortola, Virgin Islands, British; Public Registration Number 1577164 (Virgin Islands, British) [GLOMAG] (Linked To: FLEURETTE PROPERTIES LIMITED).

2. FLEURETTE PROPERTIES LIMITED (a.k.a. FLEURETTE DUTCH GROUP; a.k.a. FLEURETTE GROUP; a.k.a. GROUPE FLEURETTE; a.k.a. KARIBU AU DEVELOPMENT DURABLE AU CONGO; a.k.a. VENTORA MINING), Strawinskylaan 335, WTC, B-Tower 3rd floor, Amsterdam 1077 XX, Netherlands; Gustav Mahlerplein 60, 7th Floor, ITO Tower, Amsterdam 1082 MA, Netherlands; 70 Batetela Avenue, Tilapia Building, 5th floor, Kinshasa, Gombe, Congo, Democratic Republic of the; 57/63 Line Wall Road, Gibraltar GX11 1AA, Gibraltar; Public Registration Number 99450 (Gibraltar) [GLOMAG] (Linked To: GERTLER, Dan).

3. VENTORA DEVELOPMENT SASU, Congo, Democratic Republic of the [GLOMAG] (Linked To: AFRICA HORIZONS INVESTMENT LIMITED).

The listing for these previously designated persons now appears as follows:

1. CAPRIKAT LIMITED (n.k.a. ALBERTINE DRC S.A.S.U), Akara Building, 24 Castro Street, Wickhams Cay 1, P.O. Box 3136, Road Town, Tortola, Virgin Islands, British; Boulevard du 30 Juin No 110, Building 1113, 8eme etage, Municipality of Gombe, Kinshasa, Congo, Democratic Republic of the; Commercial Registry Number CD/KNG/RCCM/18-B-00168 (Congo, Democratic Republic of the); Public Registration Number 1577164 (Virgin Islands, British) [GLOMAG] (Linked To: FLEURETTE PROPERTIES LIMITED).

2. FLEURETTE PROPERTIES LIMITED (a.k.a. FLEURETTE DUTCH GROUP; a.k.a. FLEURETTE GROUP; a.k.a. GROUPE FLEURETTE; a.k.a. KARIBU AU DEVELOPMENT DURABLE AU CONGO; a.k.a. VENTORA INVESTMENTS S.A.SU), Strawinskylaan 335, WTC, B-Tower 3rd floor, Amsterdam 1077 XX, Netherlands; Gustav Mahlerplein 60, 7th Floor, ITO Tower, Amsterdam 1082 MA, Netherlands; 70 Batetela Avenue, Tilapia Building, 5th floor, Gombe, Kinshasa, Congo, Democratic Republic of the; 57/63 Line Wall Road, Gibraltar GX11 1AA, Gibraltar; 8eme Etage, Immeuble 1113, Boulevard Du 30 Juin No 110, Commune De La Gombe, Kinshasa, Congo, Democratic Republic of the; Commercial Registry Number CD/KNG/RCCM/18-B-00630 (Congo, Democratic Republic of the); Public Registration Number 99450 (Gibraltar) [GLOMAG] (Linked To: GERTLER, Dan).

3. VENTORA DEVELOPMENT SASU, 08eme etage, Immeuble 1113, Boulevard Du 30 Juin No 110, Gombe, Kinshasa, Kinshasa, Congo, Democratic Republic of the; Identification Number 01-9-N36511Y (Congo, Democratic Republic of the); Commercial Registry Number CD/KNG/RCCM/18-B-01273 (Congo, Democratic Republic of the) [GLOMAG] (Linked To: AFRICA HORIZONS INVESTMENT LIMITED).

Authority: E.O. 13818, 82 FR 60839, 3 CFR, 2018 Comp., p. 399.

Dated: December 6, 2021.
Andrea Gacki,
Director, Office of Foreign Assets Control, U.S. Department of the Treasury.

[FR Doc. 2021-26852 Filed 12-15-21; 8:45 am]

BILLING CODE 4810-AL-P